DEPARTMENT OF HOMELAND SECURITY

U.S. Citizenship and Immigration Services

Agency Information Collection Activities: Reinstatement of a Previously Approved Information Collection; Comments Request

ACTION: 30-day notice of information collection under review: Extension of Request for the Return of Original Document(s), Form G-884.

The Department of Homeland Security, U.S. Citizenship and Immigration Services (USCIS) has submitted the following information collection request to the Office of Management and Budget (OMB) for review and approval in accordance with the Paperwork Reduction Act of 1995. The information collection is published to obtain comments from the public and affected agencies. This information collection was previously published in the Federal Register on April 4, 2005, at 70 FR 17111, allowed for a 60-day public comment period. The USCIS did not receive any comments on this information collection during that period.

The purpose of this notice is to allow for an additional 30 days for public comments. Comments are encouraged and will be accepted until July 14, 2005. This process is conducted in accordance with 5 CFR 1320.10.

Written comments and suggestions from the public and affected agencies concerning the collection of information should address one or more of the following points:

(1) Evaluate whether the collection of information is necessary for the proper performance of the functions of the agency, including whether the information will have practical utility;

(2) Evaluate the accuracy of the agency's estimate of the burden of the collection of information, including the validity of the methodology and assumptions used;

(3) Enhance the quality, utility, and clarity of the information to be collected; and

(4) Minimize the burden of the collection of information on those who are to respond, including through the use of appropriate automated, electronic, mechanical, or other technological collection techniques, or other forms of information technology, e.g., permitting electronic submission of responses.

Overview of this information collection:

(1) Type of Information Collection: Reinstatement of a previously approved information collection.

(2) Title of the Form/Collection: Request for the Return of Original Document(s).

(3) Agency form number, if any, and the applicable component of the Department of Homeland Security sponsoring the collection: Form G-884. U.S. Citizenship and Immigration Services.

(4) Affected public who will be asked or required to respond, as well as a brief abstract: Individuals or households.

(5) An estimate of the total number of respondents and the amount of time estimated for an average respondent to respond: There are 7,500 respondents. The amount of estimated time required for the average respondent to respond is: 15 minutes (.25 hours).

(6) An estimate of the total public burden (in hours) associated with the collection: 1,875 hours annually.

If you have comments, suggestions, or need a copy of the information collection instrument, please contact Richard A. Sloan, Director, Regulatory Management Division, U.S. Citizenship and Immigration Services, 111 Massachusetts Avenue, NW., Washington, DC 20529; (202) 272-8377.

Dated: June 9, 2005.
Richard A. Sloan,
Director, Regulatory Management Division, U.S. Citizenship and Immigration Services.

[FR Doc. 05-11686 Filed 6-13-05; 8:45 am]

BILLING CODE 4410-10-M